ENVIRONMENTAL PROTECTION AGENCY

[FRL-8500-4]

Tentative Approval and Solicitation of Request for a Public Hearing for Public Water System Supervision Program Revision for the State of New York

AGENCY: Environmental Protection Agency (EPA).

ACTION: Notice.

SUMMARY: Notice is hereby given that the New York State is revising its approved Public Water System Supervision Program. EPA has determined that these revisions are no less stringent than the corresponding Federal regulations. Therefore, EPA intends to approve these program revisions. All interested parties may request a public hearing.

DATES: This determination to approve New York State's primacy program revision application is made pursuant to 40 CFR 142.12(d)(3). It shall become final and effective unless (1) a timely and appropriate request for a public hearing is received or (2) the Regional Administrator elects to hold a public hearing on his own motion. Any interested persons, other than Federal Agencies, may request a public hearing. A request for a public hearing must be submitted to the Regional Administrator at the address shown below by January 2, 2008. If substantial requests for a public hearing are made within the requested thirty day time frame, a public hearing will be held and a notice will be given in the Federal Register and a newspaper of general circulation. Frivolous or insubstantial requests for a hearing may be denied by the Regional Administrator. If no timely and appropriate requests for a hearing are received and the Regional Administrator does not elect to hold a hearing on his own motion, this determination shall become final and effective January 2, 2008.

ADDRESSES: Any request for a public hearing shall include the following information: (1) Name, address and telephone number of the individual, organization or other entity requesting a hearing; (2) a brief statement of the requesting person's interest in the Regional Administrator's determination and a brief statement on information that the requesting person intends to submit at such hearing; (3) the signature of the individual making the request or, if the request is made on behalf of an organization or other entity, the signature of a responsible official of the organization or other entity. Requests for Public Hearing shall be addressed to: Regional Administrator, U.S. Environmental Protection Agency—Region 2, 290 Broadway, New York, New York 10007-1866.

All documents relating to this determination are available for inspection between the hours of 9 a.m. and 4:30 p.m., Monday through Friday, at the following offices:

New York State Department of Health, Bureau of Public Water Supply Protection, Flanagan Square, 547 River Street, Troy, New York 12180-2216.

U.S. Environmental Protection Agency—Region 2, 24th Floor Drinking Water Section, 290 Broadway, New York, New York 10007-1866.

FOR FURTHER INFORMATION CONTACT: Michael J. Lowy, Drinking Water Section, U.S. Environmental Protection Agency—Region 2, (212) 637-3830.

SUPPLEMENTARY INFORMATION: Notice is hereby given that the United States Environmental Protection Agency (EPA) has determined to approve an application by the New York State Department of Health to revise its Public Water System Supervision Primacy Program to adopt requirements no less stringent than the EPA's National Primary Drinking Water Regulations (NPDWR) for the following: Administrative Penalty Authority; Final Rule; promulgated by EPA April 28, 1998 (63 FR 23361), Disinfectants and Disinfection Byproducts; Final Rule; promulgated by EPA December 16, 1998 (63 FR 69390), Interim Enhanced Surface Water Treatment; Final Rule; promulgated by EPA December 16, 1998 (63 FR 69478), Revision/Technical Correction to the Interim Enhanced Surface Water Treatment Rule (IESWTR) and the Stage 1 Disinfectants and Disinfection Byproducts Rule (Stage 1 DBPR) and Revisions to State Primacy Requirements to Implement SDWA Amendments; promulgated by EPA February 12, 2001 (66 FR 9903), Public Notification Rule; Final Rule; promulgated by EPA May 4, 2000 (65 FR 25982), Radionuclides; Final Rule; promulgated by EPA December 7, 2000 (65 FR 76708), Arsenic and Contaminant Monitoring and New Source Requirements; Final Rule; promulgated by EPA January 22, 2001 (66 FR 6976), Filter Backwash Recycling Rule; Final Rule; promulgated by EPA June 8, 2001 (66 FR 31086), and the Long Term 1 Enhanced Surface Water Treatment Rule; Final Rule, promulgated by EPA on January 14, 2002 (67 FR 1812). The application demonstrates that New York has adopted drinking water requirements which satisfy the NPDWRs for the above. The USEPA has determined that New York's requirements are no less stringent than the corresponding Federal Regulations and that New York continues to meet all requirements for primary enforcement responsibility as specified in 40 CFR 142.10.

Authority: (Section 1413 of the Safe Drinking Water Act, as amended, 40 U.S.C. 300g-2, and 40 CFR 142.10, 142.12(d) and 142.13).

Dated: November 15, 2007.
Alan J. Steinberg,
Regional Administrator, EPA Region 2.

[FR Doc. E7-23415 Filed 11-30-07; 8:45 am]

BILLING CODE 6560-50-P